DEPARTMENT OF HEALTH AND HUMAN SERVICES

[Document Identifier: OS-0990-0302]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before April 4, 2019.

ADDRESSES: Submit your comments to Sherrette.Funn@hhs.gov or by calling (202) 795-7714.

FOR FURTHER INFORMATION CONTACT: When submitting comments or requesting information, please include the document identifier 0990-0302-30D and project title Medical Reserve Corps Unit Profile and Reports for reference. Sherrette Funn, Sherrette.Funn@hhs.gov or (202) 795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection:

Type of Collection: Revision.

OMB No.: 0990-0302.

Abstract: Medical Reserve Corps Units are currently located in 889 communities across the United States and represent a resource of 188,229 volunteers. In order to continue to support MRC units detailed information about the MRC units, including unit demographics, contact information (regular and emergency), volunteer numbers and information about unit activities is needed by the MRC Program. MRC Unit Leaders are asked to update this information on the MRC website at least quarterly and to participate in a technical assistance assessment using the Capability Assessment at least annually. This collection informs resources and tools developed as part of national programing, identify trends and target technical assistance to support MRC units' preparedness to respond to disasters in their communities. The MRC unit data collection has been refined to eliminate duplication and streamline data collection tools.

Estimated Annualized Burden Table
Forms (if necessary) | Type of respondent | Number of respondents | Number of responses per respondent | Average burden per response (in hours) | Total burden hours
Unit Profile | MRC Unit Leader | 889 | 4 | 30/60 | 1,778
Capability Assessment | MRC Unit Leader | 889 | 1 | 30/60 | 444.5
Factors for Success | MRC Unit Leader | 889 | 4 | 30/60 | 1,778
Unit Activity Reporting | MRC Unit Leader | 889 | 4 | 15/60 | 1,778
Total |  |  | 13 |  | 5,889.5

Terry Clark,
Asst. Paperwork Reduction Act Reports Clearance Officer, Office of the Secretary.

[FR Doc. 2019-03959 Filed 3-4-19; 8:45 am]

BILLING CODE 4150-47-P